DEPARTMENT OF HOMELAND SECURITY

Federal Emergency Management Agency

44 CFR Part 67

[Docket ID FEMA-2011-0002; Internal Agency Docket No. FEMA-B-1233]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before February 27, 2012.

ADDRESSES: The corresponding preliminary Flood Insurance Rate Map (FIRM) for the proposed BFEs for each community is available for inspection at the community's map repository. The respective addresses are listed in the table below.

You may submit comments, identified by Docket No. FEMA-B-1233, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Mono County, California
California | Unincorporated Areas of Mono County | Blind Spring Valley | At the Spring Canyon Creek Benton confluence | None | +5354
|  |  | Approximately 4.3 miles upstream of the Spring Canyon Creek Benton confluence | None | +5738
California | Unincorporated Areas of Mono County | Shallow flooding | Approximately 2.3 miles southeast of the intersection of White Mountain Ranch Road and State Route 6 | None | #1
California | Unincorporated Areas of Mono County | Shallow flooding | Approximately 2.7 miles southeast of the intersection of White Mountain Ranch Road and State Route 6 | None | #2
California | Unincorporated Areas of Mono County | Shallow flooding | Approximately 3.0 miles northeast of the intersection of Goolsby Ranch Road and State Route 6 | None | #1
California | Unincorporated Areas of Mono County | Shallow flooding | Approximately 2.9 miles northeast of the intersection of Chidago Way and Piute Lane | None | #1
California | Unincorporated Areas of Mono County | Shallow flooding | Approximately 2.9 miles southeast of the intersection of White Mountain Ranch Road and State Route 6 | None | #3
California | Unincorporated Areas of Mono County | Spring Canyon Creek Benton | Approximately 3.4 miles downstream of Goolsby Ranch Road | None | +5226
|  |  | Approximately 1.3 miles upstream of Snipes Ranch Road | None | +5483
California | Unincorporated Areas of Mono County | Spring Canyon Creek Chalfant | Approximately 3.1 miles upstream of the Inyo County boundary | None | +4233
|  |  | Approximately 7.8 miles upstream of the Inyo County boundary | None | +4366
California | Unincorporated Areas of Mono County | Spring Canyon Creek Hammil | Approximately 3.1 miles downstream of the Willow Creek Aqueduct | None | +4531
|  |  | Approximately 0.5 mile upstream of State Route 6 | None | +4722
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Unincorporated Areas of Mono County
Maps are available for inspection at the Mono County Department of Public Works, 74 North School Street, Bridgeport, CA 93517.
City of Carson City, Nevada
Nevada | City of Carson City | Ash Canyon Creek | Approximately 1,460 feet west of the intersection of Ash Canyon Road and Wellington West Road | #2 | #1
|  |  | Approximately 110 feet upstream of Ormsby Boulevard | None | +4761
Nevada | City of Carson City | King Canyon Creek | Approximately 356 feet northeast of the intersection of Kings Canyon Road and Canyon Drive | None | #2
|  |  | Approximately 142 feet upstream of Canyon Park Court | None | +4760
Nevada | City of Carson City | Shallow flooding | Approximately 657 feet northeast of the intersection of Mountain Street and Tahoe Drive | None | #1
Nevada | City of Carson City | Shallow flooding | Approximately 324 feet east of the intersection of Plaza Street and Ann Street | None | #1
Nevada | City of Carson City | Shallow flooding | Approximately 237 feet northeast of the intersection of Washington Street and Bunker Hill Drive | None | #1
Nevada | City of Carson City | Shallow flooding | Approximately 422 feet northeast of the intersection of Washington Street and Richmond Avenue | None | #1
Nevada | City of Carson City | Shallow flooding | Approximately 100 feet northeast of the intersection of William Street and Stewart Street | None | #1
Nevada | City of Carson City | Shallow flooding | Approximately 300 feet southwest of the intersection of William Street and Valley Street | None | #1
Nevada | City of Carson City | Shallow flooding | Approximately 180 feet southwest of the intersection of John Street and Roop Street | None | #1
Nevada | City of Carson City | Shallow flooding | Approximately 289 feet southeast of the intersection of South Ormsby Boulevard and King Street | None | #1
Nevada | City of Carson City | Shallow flooding | Approximately 505 feet northwest of the intersection of Ormsby Drive and Kings Canyon Road | None | #1
Nevada | City of Carson City | Shallow flooding | At the intersection of Minnesota Street and John Street | None | #1
Nevada | City of Carson City | Shallow flooding | Approximately 1,834 feet northwest of the intersection of Canyon Drive and Knoll Drive | None | #1
Nevada | City of Carson City | Shallow flooding | Approximately 959 feet northwest of the intersection of Christmas Tree Drive and Emily Court | None | #1
Nevada | City of Carson City | Shallow flooding | Approximately 203 feet west of the intersection of Ormsby Boulevard and Calaveras Drive | None | #1
Nevada | City of Carson City | Shallow flooding | Approximately 431 feet southwest of the intersection of Ormsby Boulevard and Calaveras Drive | None | #1
Nevada | City of Carson City | Shallow flooding | Approximately 536 feet northeast of the intersection of Kings Canyon Road and Canyon Drive | None | #1
Nevada | City of Carson City | Shallow flooding | Approximately 162 feet northeast of the intersection of North Plaza Street and Proctor Street | None | #1
Nevada | City of Carson City | Shallow flooding | Approximately 922 feet north of the intersection of Ormsby Drive and Comstock Circle | None | #1
Nevada | City of Carson City | Shallow flooding | Approximately 228 feet southeast of the intersection of Roop Street and East Musser Street | None | #1
Nevada | City of Carson City | Shallow flooding | Approximately 136 feet northwest of the intersection of North Walsh Street and East Musser Street | None | #1
Nevada | City of Carson City | Shallow flooding | Approximately 145 feet northwest of the intersection of North Fall Street and East Telegraph Street | None | #1
Nevada | City of Carson City | Shallow flooding | Approximately 104 feet northeast of the intersection of North Fall Street and East Telegraph Street | None | #1
Nevada | City of Carson City | Shallow flooding | Approximately 135 feet east of the intersection of Yorktown Drive and Lexington Avenue | None | #1
Nevada | City of Carson City | Shallow flooding | Approximately 343 feet east of the intersection of Yorktown Drive and Lexington Avenue | None | #1
Nevada | City of Carson City | Shallow flooding | Approximately 776 feet north of the intersection of Washington Street and Bunker Hill Drive | None | #1
Nevada | City of Carson City | Shallow flooding | Approximately 200 feet southwest of the intersection of South Ormsby Boulevard and King Street | None | #1
Nevada | City of Carson City | Shallow flooding | At the intersection of Seely Loop and North Saliman Road | None | #1
Nevada | City of Carson City | Shallow flooding | Approximately 592 feet southeast of the intersection of Pittman Place and King Street | None | #1
Nevada | City of Carson City | Shallow flooding | Approximately 176 feet northwest of the intersection of Mary Street and North 5th Street | None | #1
Nevada | City of Carson City | Shallow flooding | Approximately 350 feet northwest of the intersection of King Street and South Iris Street | None | #1
Nevada | City of Carson City | Shallow flooding | Approximately 447 feet northeast of the intersection of West Musser Street and Mountain Street | None | #1
Nevada | City of Carson City | Shallow flooding | Approximately 106 feet east of the intersection of Nevada Street and Proctor Street | None | #1
Nevada | City of Carson City | Shallow flooding | Approximately 182 feet northeast of the intersection of Nevada Street and West 3rd Street | None | #1
Nevada | City of Carson City | Shallow flooding | Approximately 132 feet southeast of the intersection of Nevada Street and West 3rd Street | None | #1
Nevada | City of Carson City | Shallow flooding | Approximately 311 feet east of the intersection of U.S. Route 395 and West 2nd Street | None | #1
Nevada | City of Carson City | Shallow flooding | Approximately 311 feet north of the intersection of East Musser Street and North Fall Street | None | #1
Nevada | City of Carson City | Shallow flooding | Approximately 145 feet northeast of the intersection of North Fall Street and Proctor Street | None | #1
Nevada | City of Carson City | Shallow flooding | Approximately 306 feet southeast of the intersection of Roop Street and East 2nd Street | None | #1
Nevada | City of Carson City | Shallow flooding | Approximately 302 feet west of the intersection of Ormsby Boulevard and Calaveras Drive | None | #2
Nevada | City of Carson City | Shallow flooding | Approximately 0.37 mile southeast of the intersection of Williams Street and Roop Street | None | #2
Nevada | City of Carson City | Shallow flooding | At the intersection of Washington Street and Ormsby Boulevard | None | #2
Nevada | City of Carson City | Shallow flooding | At the intersection of North Saliman Road and Robinson Street | None | #2
Nevada | City of Carson City | Shallow flooding | Approximately 467 feet east of the intersection of Mountain Street and Tahoe Drive | None | #2
Nevada | City of Carson City | Shallow flooding | At the intersection of Goldfield Avenue and Saliman Road | None | #2
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Carson City
Maps are available for inspection at the Planning Department, 2621 Northgate Lane, Suite 62, Carson City, NV 89706.

Flooding source(s) | Location of referenced elevation** | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Shelby County, Alabama, and Incorporated Areas
Acton Creek | Approximately 0.78 mile downstream of Indian Valley Road | None | +428 | City of Hoover, Unincorporated Areas of Shelby County.
| Approximately 595 feet upstream of Caldwell Mill Road | None | +472
Beaverdam Creek | At the Cahaba River confluence | None | +394 | City of Helena, Unincorporated Areas of Shelby County.
| Approximately 775 feet downstream of County Road 17 | None | +424
Bishop Creek | At the downstream side of Industrial Park Drive | +418 | +423 | City of Helena, City of Pelham, Town of Indian Springs Village, Unincorporated Areas of Shelby County.
| Approximately 483 feet upstream of Surrey Lane | +524 | +525
Buck Creek | Approximately 800 feet upstream of U.S. Route 261 | +411 | +412 | City of Alabaster, City of Helena, City of Pelham, Unincorporated Areas of Shelby County.
| Approximately 0.9 mile upstream of County Road 340. | +564 | +567
Camp Creek (backwater effects from Kelly Creek) | Approximately 841 feet upstream of the Kelly Creek confluence | None | +439 | Unincorporated Areas of Shelby County.
| Approximately 0.7 mile upstream of the Kelly Creek confluence | None | +439
Coales Branch | At the upstream side of CSX Railroad Bridge | +442 | +444 | City of Pelham.
| Approximately 1,350 feet upstream of Dow Street | +492 | +494
Dodd Branch | Approximately 174 feet upstream of Lake Forest Circle | +419 | +421 | City of Hoover, City of Pelham, Unincorporated Areas of Shelby County.
| Approximately 730 feet upstream of Indian Lake Lane. | None | +499
Dodd Branch Tributary 1 | Approximately 908 feet downstream of Baneberry Drive | None | +445 | City of Hoover, City of Pelham, Unincorporated Areas of Shelby County.
| Approximately 1,670 feet upstream of Indian Lake Way | None | +487
Dodd Branch Tributary 1.1 | At the downstream side of Stratshire Lane | None | +453 | City of Helena, City of Pelham.
| Approximately 413 feet upstream of Aaron Road | None | +485
Dry Creek I | Approximately 0.47 mile downstream of Fox Valley Farms Road | None | +422 | City of Alabaster, City of Helena, Unincorporated Areas of Shelby County.
| Approximately 531 feet downstream of Fox Valley Farms Road | None | +423
Hogpen Creek | At the upstream side of the railroad | +449 | +452 | City of Pelham, Unincorporated Areas of Shelby County.
| Approximately 1,390 feet upstream of Berry Lane | None | +510
Hurricane Creek (backwater effects from Cahaba River) | Approximately 0.75 mile downstream of County Road 13 | None | +381 | City of Helena, Unincorporated Areas of Shelby County.
| Approximately 0.8 mile upstream of County Road 13. | None | +381
Hurricane Creek I (backwater effects from Bear Creek) | Approximately 1,365 feet downstream of Rocky Hollow Lane | None | +464 | Unincorporated Areas of Shelby County.
| Approximately 416 feet upstream of Rocky Hollow Lane | None | +464
Ivy Branch (backwater effects from North Fork Yellowleaf Creek) | At the downstream side of County Road 280 (Old Highway 280) | None | +683 | City of Chelsea, Unincorporated Areas of Shelby County.
| Approximately 469 feet upstream of County Road 280 (Old Highway 280) | None | +683
Lee Branch | Approximately 884 feet upstream of Cahaba Valley Road | None | +553 | City of Birmingham, City of Hoover, Unincorporated Areas of Shelby County.
| Approximately 350 feet upstream of Hugh Daniel Drive | None | +608
Lee Brook | At the upstream side of County Road 95 | +416 | +417 | City of Helena.
| Approximately 965 feet upstream of Wynwood Drive | None | +477
Little Beeswax Creek | Approximately 0.86 mile downstream of County Road 28 | +406 | +405 | Unincorporated Areas of Shelby County.
| Approximately 0.52 mile upstream of County Road 61. | +461 | +463
North Fork Yellowleaf Creek | Approximately 0.9 mile downstream of U.S. Route 280 | None | +575 | City of Chelsea, Unincorporated Areas of Shelby County.
| Approximately 1.2 miles upstream of Highland Lakes Road | None | +783
North Fork Yellowleaf Creek Tributary I (backwater effects from North Fork Yellowleaf Creek) | At the North Fork Yellowleaf Creek confluence | None | +688 | City of Chelsea, Unincorporated Areas of Shelby County.
| Approximately 946 feet upstream of the North Fork Yellowleaf confluence | None | +688
Peavine Creek | Approximately 1,213 feet downstream of U.S. Route 31 | +435 | +441 | City of Alabaster, City of Pelham, Unincorporated Areas of Shelby County.
| Approximately 1.7 miles upstream of County Road 334 | None | +577
Poplar Branch (backwater effects from North Fork Yellowleaf Creek) | Approximately 138 feet upstream of U.S. Route 280 | None | +531 | City of Chelsea, Unincorporated Areas of Shelby County.
| Approximately 1,967 feet upstream of U.S. Route 280. | None | +531
Prairie Brook | At the downstream side of Railroad Avenue East | +411 | +416 | City of Helena.
| Approximately 0.45 mile upstream of County Road 95. | +424 | +425
Trigger Creek (backwater effects from North Fork Yellowleaf Creek) | Approximately 1,024 feet downstream of County Road 13 | None | +399 | City of Hoover, Unincorporated Areas of Shelby County.
| Approximately 1.02 miles upstream of County Road 13 | None | +399
Wolf Creek I (backwater effects from Kelly Creek) | Approximately 0.45 mile upstream of the Kelly Creek confluence | None | +456 | Unincorporated Areas of Shelby County.
| Approximately 0.66 mile upstream of the Kelly Creek confluence | None | +456
Yellowleaf Creek Tributary 1 (backwater effects from North Fork Yellowleaf Creek) | Approximately 0.91 mile upstream of the Yellowleaf Creek confluence | None | +456 | City of Chelsea, Unincorporated Areas of Shelby County.
| Approximately 1.33 miles upstream of the Yellowleaf Creek confluence | None | +456
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Alabaster
Maps are available for inspection at 201 1st Street North, Alabaster, AL 35007.
City of Birmingham
Maps are available for inspection at 710 20th Street North, Birmingham, AL 35203.
City of Chelsea
Maps are available for inspection at 11611 Chelsea Road, Chelsea, AL 35043.
City of Helena
Maps are available for inspection at 816 State Route 82, Helena, AL 35080.
City of Hoover
Maps are available for inspection at 100 Municipal Drive, Hoover, AL 35216.
City of Pelham
Maps are available for inspection at 3162 Pelham Parkway, Pelham, AL 35124.
Town of Indian Springs Village
Maps are available for inspection at 2635 Cahaba Valley Road, Indian Springs, AL 35124.
Unincorporated Areas of Shelby County
Maps are available for inspection at 200 West College Street, Columbiana, AL 35051.
Cobb County, Georgia, and Incorporated Areas
Buttermilk Creek | At the Sweetwater Creek confluence | +889 | +892 | City of Austell, Unincorporated Areas of Cobb County.
| Approximately 1.0 mile upstream of the Sweetwater Creek confluence | +891 | +892
Chattahoochee River | Approximately 2.9 miles downstream of I-20 | +761 | +760 | City of Smyrna, Unincorporated Areas of Cobb County.
| Approximately 1.8 miles upstream of Morgan Falls Dam | +860 | +861
Concord Creek | At the Nickajack Creek confluence | +895 | +894 | Unincorporated Areas of Cobb County.
| Approximately 720 feet upstream of Auldyn Drive | +1000 | +999
Cooper Lake Creek | Approximately 1,200 feet upstream of the Nickajack Creek confluence | +826 | +825 | City of Smyrna, Unincorporated Areas of Cobb County.
| At the upstream side of Gann Road Southeast | +891 | +892
Favor Creek | At the Nickajack Creek confluence | +916 | +913 | Unincorporated Areas of Cobb County.
| Approximately 1.55 miles upstream of the Nickajack Creek confluence | +999 | +1001
Gilmore Creek | At the Chattahoochee River confluence | +775 | +774 | Unincorporated Areas of Cobb County.
| Approximately 0.64 mile upstream of the Chattahoochee River confluence | +775 | +774
Gothards Creek | At the Sweetwater Creek confluence | +902 | +905 | Unincorporated Areas of Cobb County.
| At the Douglas County boundary | +906 | +905
Harmony Grove Creek | At the Willeo Creek confluence | +900 | +898 | Unincorporated Areas of Cobb County.
| At the upstream side of Johnson Ferry Road | +1053 | +1052
Laurel Creek | At the Nickajack Creek confluence | +807 | +802 | City of Smyrna, Unincorporated Areas of Cobb County.
| Approximately 500 feet upstream of Lee Street Southeast | +986 | +984
Liberty Hill Branch | At the Queen Creek confluence | +770 | +774 | Unincorporated Areas of Cobb County.
| Approximately 0.95 mile upstream of the Queen Creek confluence | +913 | +911
Little Noonday Creek | At the Noonday Creek confluence | +906 | +905 | Unincorporated Areas of Cobb County.
| Approximately 0.5 mile upstream of the Noonday Creek confluence | +906 | +905
Lost Mountain Creek | At the Wildhorse Creek confluence | +907 | +903 | City of Powder Springs, Unincorporated Areas of Cobb County.
| Approximately 1,250 feet upstream of Macedonia Road Southwest | +940 | +943
Milam Branch | At the Queen Creek confluence | +902 | +904 | Unincorporated Areas of Cobb County.
| Approximately 200 feet upstream of Francis Circle Southwest | +1010 | +1013
Mill Creek No. 2 | At the Nickajack Creek confluence | +906 | +902 | Unincorporated Areas of Cobb County.
| Approximately 150 feet upstream of Hicks Road Southwest | +965 | +963
Mud Creek | At the Noses Creek confluence | +912 | +908 | Unincorporated Areas of Cobb County.
| Approximately 0.4 mile upstream of the Noses Creek confluence | +912 | +911
Nickajack Creek | At the Chattahoochee River confluence | +767 | +764 | City of Smyrna, Unincorporated Areas of Cobb County.
| Approximately 200 feet upstream of South Cobb Drive | +1047 | +1049
Noonday Creek | At the Cherokee County boundary | +896 | +895 | City of Kennesaw, City of Marietta, Unincorporated Areas of Cobb County.
| Approximately 350 feet upstream of New Salem Road. | +1025 | +1023
Noonday Creek Tributary No. 4 | At the Noonday Creek confluence | +929 | +927 | Unincorporated Areas of Cobb County.
| Approximately 1,800 feet upstream of the Noonday Creek confluence | +929 | +928
Noses Creek | At the Sweetwater Creek confluence | +892 | +895 | City of Austell, City of Marietta, City of Powder Springs, Unincorporated Areas of Cobb County.
| Approximately 450 feet upstream of Kennesaw Avenue | +1083 | +1081
Olley Creek | At the Sweetwater Creek confluence | +892 | +895 | City of Austell, Unincorporated Areas of Cobb County.
| At the upstream side of Clay Road Southwest | +894 | +895
Powder Springs Creek | At the Sweetwater Creek confluence | +897 | +901 | City of Austell, City of Powder Springs, Unincorporated Areas of Cobb County.
| Approximately 1,750 feet upstream of Oglesby Road. | +900 | +901
Powers Branch | At the Chattahoochee River confluence | +794 | +795 | Unincorporated Areas of Cobb County.
| Approximately 1,060 feet upstream of the Chattahoochee River confluence | +794 | +795
Queen Creek | At the Nickajack Creek confluence | +767 | +764 | Unincorporated Areas of Cobb County.
| At the upstream side of Mableton Parkway | +997 | +999
Rottenwood Creek | At the Chattahoochee River confluence | +778 | +781 | Unincorporated Areas of Cobb County.
| Approximately 1,300 feet upstream of the Chattahoochee River confluence | +780 | +781
Smyrna Branch | At the Theater Branch confluence | +929 | +930 | City of Smyrna.
| Approximately 200 feet upstream of Powder Springs Street Southeast | +997 | +998
Sweat Mountain Creek | At the Willeo Creek confluence | +943 | +941 | Unincorporated Areas of Cobb County.
| Approximately 950 feet upstream of Wesley Chapel Road | +1001 | +1000
Sweetwater Creek | Approximately 200 feet downstream of Old Alabama Road | +888 | +891 | City of Austell, Unincorporated Areas of Cobb County.
| At the Paulding County boundary | +906 | +909
Theater Branch | At the Nickajack Creek confluence | +928 | +923 | City of Smyrna, Unincorporated Areas of Cobb County.
| At the downstream side of Parkway Drive Southeast. | +973 | +975
Timber Ridge Branch | At the Willeo Creek confluence | +862 | +863 | Unincorporated Areas of Cobb County.
| Approximately 1.22 miles upstream of the Willeo Creek confluence | +882 | +879
Ward Creek | At the Noses Creek confluence | +926 | +924 | Unincorporated Areas of Cobb County.
| Approximately 0.4 mile upstream of the Noses Creek confluence | +926 | +925
Wildhorse Creek | At the Noses Creek confluence | +907 | +903 | City of Powder Springs, Unincorporated Areas of Cobb County.
| Approximately 700 feet upstream of Arapaho Drive | +952 | +953
Willeo Creek | Approximately 1,000 feet upstream of the Chattahoochee River confluence | +862 | +863 | Unincorporated Areas of Cobb County.
| Approximately 400 feet upstream of the Sweat Mountain Creek confluence | +945 | +942
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Austell
Maps are available for inspection at City Hall, 2716 Broad Street Southwest, Austell, GA 30106.
City of Kennesaw
Maps are available for inspection at City Hall, 2529 J. O. Stephenson Avenue, Kennesaw, GA 30144.
City of Marietta
Maps are available for inspection at the Public Works Department, 205 Lawrence Street, Marietta, GA 30060.
City of Powder Springs
Maps are available for inspection at City Hall, 4484 Marietta Street, Powder Springs, GA 30127.
City of Smyrna
Maps are available for inspection at the Engineer's Office, 2800 King Street, Smyrna, GA 30080.
Unincorporated Areas of Cobb County
Maps are available for inspection at the Cobb County Development and Inspection Department, 205 Lawrence Street, Marietta, GA 30060.
Coweta County, Georgia, and Incorporated Areas
Chattahoochee River | Approximately 1,850 feet downstream of the Heard County boundary | None | +686 | Unincorporated Areas of Coweta County.
| Approximately 4.1 miles upstream of the Cedar Creek confluence | None | +720
Little Wahoo Creek | Approximately 150 feet upstream of the Wahoo Creek confluence | +800 | +799 | Unincorporated Areas of Coweta County.
| Approximately 1.49 miles upstream of Fast Guard Farms | +868 | +869
Snake Creek | At the Wahoo Creek confluence | +795 | +799 | City of Newnan, Unincorporated Areas of Coweta County.
| Approximately 0.5 mile upstream of Dixon Street | +929 | +927
Tributary 1 to Snake Creek | At the Snake Creek confluence | +873 | +875 | City of Newnan.
| Approximately 1,125 feet upstream of Pickens Drive | +896 | +897
Tributary 1 to Wahoo Creek | At the Wahoo Creek confluence | +843 | +842 | City of Newnan, Unincorporated Areas of Coweta County.
| Approximately 400 feet upstream of Wood Trail | +947 | +941
Tributary 10 to Wahoo Creek | At the Wahoo Creek confluence | +881 | +880 | City of Newnan.
| Approximately 0.63 mile upstream of the Wahoo Creek confluence | +933 | +934
Tributary 11 to Wahoo Creek | At the Wahoo Creek confluence | +882 | +881 | City of Newnan.
| Approximately 1,400 feet upstream of Roberts Road | +901 | +906
Tributary 12 to Wahoo Creek | At the Wahoo Creek confluence | +891 | +897 | City of Newnan.
| Approximately 600 feet upstream of Dewey Street | +942 | +944
Tributary 2 to Snake Creek | At the Snake Creek confluence | +890 | +892 | City of Newnan.
| Approximately 700 feet upstream of Maple Drive | +931 | +928
Tributary 2 to Wahoo Creek | At the Wahoo Creek confluence | +867 | +860 | City of Newnan, Unincorporated Areas of Coweta County.
| Approximately 1,200 feet upstream of Jefferson Street | +921 | +920
Tributary 3 to Wahoo Creek | At the Tributary 2 to Wahoo Creek confluence | +867 | +868 | City of Newnan.
| At the upstream side of Matador Way | +882 | +885
Tributary 4 to Wahoo Creek | At the Tributary 3 to Wahoo Creek confluence | +872 | +871 | City of Newnan.
| Approximately 360 feet upstream of the detention pond | +880 | +885
Tributary 5 to Wahoo Creek | At the Tributary 2 to Wahoo Creek confluence | +874 | +879 | City of Newnan.
| Approximately 580 feet upstream of the Tributary 2 to Wahoo Creek confluence | +884 | +888
Tributary 6 to Wahoo Creek | Approximately 210 feet upstream of the Tributary 2 to Wahoo Creek confluence | +881 | +882 | City of Newnan.
| Approximately 140 feet upstream of Ashley Park Drive | +893 | +897
Tributary 7 to Wahoo Creek | At the Wahoo Creek confluence | +867 | +860 | City of Newnan, Unincorporated Areas of Coweta County.
| Approximately 1,650 feet upstream of Marathon Street | +897 | +898
Tributary 8 to Wahoo Creek | At the Wahoo Creek confluence | +867 | +861 | City of Newnan.
| Approximately 0.41 mile upstream of the Wahoo Creek confluence | +897 | +899
Tributary 9 to Wahoo Creek | At the Wahoo Creek confluence | +875 | +874 | City of Newnan.
| Approximately 1,800 feet upstream of the Wahoo Creek confluence | +904 | +905
Wahoo Creek | At the Chattahoochee River confluence | None | +701 | City of Newnan, Unincorporated Areas of Coweta County.
| Approximately 960 feet upstream of Paul Street | +946 | +945
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Newnan
Maps are available for inspection at the Public Works Department, 25 LaGrange Street, Newnan, GA 30263.
Unincorporated Areas of Coweta County
Maps are available for inspection at the Coweta County Development and Engineering Department, 21 East Washington Street, Newnan, GA 30263.
Douglas County, Georgia, and Incorporated Areas
Anneewakee Creek | At the Chattahoochee River confluence | +747 | +749 | Unincorporated Areas of Douglas County.
| Approximately 1,900 feet upstream of the Anneewakee Creek Tributary B confluence | +748 | +749
Anneewakee Creek Tributary A | At the Anneewakee Creek confluence | +747 | +749 | Unincorporated Areas of Douglas County.
| Approximately 910 feet upstream of the Anneewakee Creek confluence | +748 | +749
Anneewakee Creek Tributary B | At the Anneewakee Creek confluence | +747 | +749 | Unincorporated Areas of Douglas County.
| Approximately 500 feet upstream of the Anneewakee Creek confluence | +748 | +749
Bear Creek | At the upstream side of the Chattahoochee River confluence | +741 | +740 | Unincorporated Areas of Douglas County.
| Approximately 2,000 feet upstream of State Route 166 | +741 | +740
Beaver Creek | At the Sweetwater Creek confluence | +868 | +871 | Unincorporated Areas of Douglas County.
| Approximately 500 feet upstream of Patty Court | None | +1006
Beaver Creek Tributary A | At the Beaver Creek confluence | None | +914 | Unincorporated Areas of Douglas County.
| Approximately 0.52 mile upstream of the Beaver Creek confluence | None | +953
Camp Branch | At the Hurricane Creek confluence | None | +975 | Unincorporated Areas of Douglas County.
| Approximately 1,200 feet upstream of the Camp Branch Tributary A confluence | None | +1062
Camp Branch Tributary A | At the Camp Branch confluence | None | +1043 | Unincorporated Areas of Douglas County.
| Approximately 750 feet upstream of the Camp Branch confluence | None | +1066
Chattahoochee River | At the Carroll County boundary | +728 | +730 | City of Douglasville, Unincorporated Areas of Douglas County.
| At the Cobb County boundary | +761 | +760
Dog River | At the Chattahoochee River confluence | +738 | +736 | Unincorporated Areas of Douglas County.
| Approximately 1,200 feet upstream of the Chattahoochee River confluence | +738 | +736
Dry Creek | At the Beaver Creek confluence | None | +891 | Unincorporated Areas of Douglas County.
| Approximately 1,050 feet upstream of Lee Road | None | +988
Dry Creek Tributary A | At the Dry Creek confluence | None | +898 | Unincorporated Areas of Douglas County.
| Approximately 0.53 mile upstream of the Dry Creek confluence | None | +925
Dry Creek Tributary B | At the Dry Creek confluence | None | +928 | Unincorporated Areas of Douglas County.
| Approximately 1,170 feet upstream of the Dry Creek confluence | None | +944
Dry Creek Tributary C | At the Dry Creek confluence | None | +943 | Unincorporated Areas of Douglas County.
| Approximately 1,900 feet upstream of the Dry Creek confluence | None | +969
Gordon Creek | At the Sweetwater Creek confluence | +878 | +881 | City of Douglasville, Unincorporated Areas of Douglas County.
| At the Cobb County boundary | +897 | +898
Gothards Creek | At the Cobb County boundary | None | +905 | Unincorporated Areas of Douglas County.
| Approximately 1.35 miles upstream of Cedar Mountain Road | None | +1042
Gothards Creek Tributary 1 | At the Gothards Creek confluence | None | +906 | Unincorporated Areas of Douglas County.
| Approximately 1,040 feet upstream of the Gothards Creek confluence | None | +908
Gothards Creek Tributary 10 | At the Gothards Creek confluence | None | +946 | Unincorporated Areas of Douglas County.
| Approximately 0.68 mile upstream of the Gothards Creek confluence | None | +970
Gothards Creek Tributary 11 | Approximately 250 feet upstream of the Gothards Creek confluence | +947 | +948 | Unincorporated Areas of Douglas County.
| Approximately 1.03 miles upstream of the Gothards Creek Tributary 11.3 confluence | None | +1063
Gothards Creek Tributary 11.1 | At the Gothards Creek Tributary 11 confluence | None | +972 | Unincorporated Areas of Douglas County.
| Approximately 200 feet upstream of Cedar Mountain Road | None | +987
Gothards Creek Tributary 11.2 | At the Gothards Creek Tributary 11 confluence | None | +985 | City of Douglasville, Unincorporated Areas of Douglas County.
| Approximately 1.05 miles upstream of the Gothards Creek Tributary 11 confluence | None | +1100
Gothards Creek Tributary 11.3 | At the Gothards Creek Tributary 11 confluence | None | +1006 | Unincorporated Areas of Douglas County.
| Approximately 0.49 mile upstream of the Gothards Creek Tributary 11 confluence | None | +1042
Gothards Creek Tributary 12 | At the Gothards Creek confluence | None | +961 | Unincorporated Areas of Douglas County.
| Approximately 0.60 mile upstream of the Gothards Creek confluence | None | +1000
Gothards Creek Tributary 15 | At the Gothards Creek confluence | None | +980 | Unincorporated Areas of Douglas County.
| Approximately 350 feet upstream of County Services Road | None | +1013
Gothards Creek Tributary 2 | At the Gothards Creek confluence | None | +909 | Unincorporated Areas of Douglas County.
| Approximately 0.78 mile upstream of the Gothards Creek confluence | None | +995
Gothards Creek Tributary 2.1 | At the Gothards Creek confluence | None | +907 | Unincorporated Areas of Douglas County.
| At the Gothards Creek Tributary 2 divergence | None | +966
Gothards Creek Tributary 3 | At the Gothards Creek confluence | None | +910 | Unincorporated Areas of Douglas County.
| Approximately 1,100 feet upstream of Boyd Road | None | +1095
Gothards Creek Tributary 3.1 | At the Gothards Creek Tributary 3 | None | +917 | Unincorporated Areas of Douglas County.
| Approximately 640 feet upstream of Greystone Lane | None | +1057
Gothards Creek Tributary 3.2 | At the Gothards Creek Tributary 3 confluence | None | +928 | Unincorporated Areas of Douglas County.
| At the upstream side of Cody Lane | None | +951
Gothards Creek Tributary 4 | At the Paulding County boundary | None | +935 | Unincorporated Areas of Douglas County.
| Approximately 1,650 feet upstream of the Paulding County boundary | None | +961
Gothards Creek Tributary 4.1 | At the Paulding County boundary | None | +938 | Unincorporated Areas of Douglas County.
| Approximately 0.39 mile upstream of the Paulding County boundary | None | +980
Gothards Creek Tributary 4.1.1 | At the Paulding County boundary | None | +933 | Unincorporated Areas of Douglas County.
| Approximately 650 feet upstream of Bearden Road | None | +972
Gothards Creek Tributary 6 | At the Gothards Creek confluence | None | +926 | City of Douglasville, Unincorporated Areas of Douglas County.
| Approximately 300 feet upstream of Maroney Mill Road | None | +941
Gothards Creek Tributary 8 | At the Gothards Creek confluence | +939 | +940 | City of Douglasville, Unincorporated Areas of Douglas County.
| Approximately 0.95 mile upstream of the Gothards Creek Tributary 8.1 confluence | None | +1084
Gothards Creek Tributary 8.1 | At the Gothards Creek Tributary 8 confluence | None | +977 | City of Douglasville, Unincorporated Areas of Douglas County.
| Approximately 0.67 mile upstream of the Gothards Creek Tributary 8 confluence | None | +1030
Gothards Creek Tributary 9 | At the Gothards Creek confluence | None | +945 | Unincorporated Areas of Douglas County.
| Approximately 0.46 mile upstream of the Gothards Creek confluence | None | +962
Hickory Creek | At the Beaver Creek confluence | None | +926 | City of Douglasville, Unincorporated Areas of Douglas County.
| Approximately 0.52 mile upstream of Burnt Hickory Road | None | +1043
Hickory Creek Tributary A | At the Hickory Creek confluence | None | +958 | City of Douglasville, Unincorporated Areas of Douglas County.
| Approximately 1,650 feet upstream of U.S. Route 20 | None | +999
Hickory Creek Tributary B | At the Hickory Creek confluence | None | +959 | City of Douglasville, Unincorporated Areas of Douglas County.
| Approximately 650 feet upstream of September Way | None | +1036
Hickory Creek Tributary C | At the Hickory Creek confluence | None | +983 | City of Douglasville, Unincorporated Areas of Douglas County.
| Approximately 350 feet upstream of Magnolia Trail | None | +1036
Hickory Creek Tributary D | At the Hickory Creek confluence | None | +999 | Unincorporated Areas of Douglas County.
| Approximately 1,250 feet upstream of Lakeland Hills Drive | None | +1046
Hickory Creek Tributary E | At the Hickory Creek confluence | None | +1007 | Unincorporated Areas of Douglas County.
| Approximately 0.47 mile upstream of the Hickory Creek confluence | None | +1056
Huey Creek | At the Paulding County boundary | None | +931 | City of Douglasville, Unincorporated Areas of Douglas County.
| Approximately 1,150 feet upstream of Brown Street | None | +1083
Huey Creek Tributary 1 | At the Huey Creek confluence | None | +940 | City of Douglasville, Unincorporated Areas of Douglas County.
| Approximately 0.91 mile upstream of the Huey Creek Tributary 1.1 confluence | None | +1095
Huey Creek Tributary 1.1 | At the Huey Creek Tributary 1 confluence | None | +1004 | Unincorporated Areas of Douglas County.
| Approximately 1,550 feet upstream of the Huey Creek Tributary 1 confluence | None | +1067
Huey Creek Tributary 2 | At the Huey Creek confluence | None | +976 | Unincorporated Areas of Douglas County.
| Approximately 350 feet upstream of Huey Road | None | +1017
Huey Creek Tributary 3 | At the Huey Creek confluence | None | +976 | Unincorporated Areas of Douglas County.
| Approximately 300 feet upstream of Pirkle Road | None | +1038
Hurricane Creek | At the Carroll County boundary | None | +727 | Unincorporated Areas of Douglas County.
| Approximately 1.10 miles upstream of the Tyree Branch confluence | None | +1201
Hurricane Creek Tributary A | At the Hurricane Creek confluence | None | +747 | Unincorporated Areas of Douglas County.
| Approximately 0.66 mile upstream of the Hurricane Creek confluence | None | +796
Hurricane Creek Tributary B | At the Hurricane Creek confluence | None | +784 | Unincorporated Areas of Douglas County.
| Approximately 1,450 feet upstream of the Hurricane Creek confluence | None | +832
Hurricane Creek Tributary C | At the Hurricane Creek confluence | None | +940 | Unincorporated Areas of Douglas County.
| Approximately 0.38 mile upstream of the Hurricane Creek confluence | None | +980
Hurricane Creek Tributary D | At the Hurricane Creek confluence | None | +958 | Unincorporated Areas of Douglas County.
| Approximately 0.53 mile upstream of the Hurricane Creek confluence | None | +1012
Hurricane Creek Tributary E | At the Hurricane Creek confluence | None | +976 | Unincorporated Areas of Douglas County.
| Approximately 1,921 feet upstream of Tweeddale Drive | None | +1022
Kraft Creek | At the Hurricane Creek confluence | None | +1019 | Unincorporated Areas of Douglas County.
| Approximately 450 feet upstream of Kraft Drive | None | +1045
Kraft Creek Tributary A | At the Kraft Creek confluence | None | +1031 | Unincorporated Areas of Douglas County.
| Approximately 950 feet upstream of the Kraft Creek confluence | None | +1057
Lion Branch | At the Beaver Creek confluence | None | +900 | City of Douglasville, Unincorporated Areas of Douglas County.
| Approximately 200 feet upstream of East Melissa Lane | None | +1060
Lion Branch Tributary A | At the Lion Branch confluence | None | +932 | Unincorporated Areas of Douglas County.
| Approximately 0.50 mile upstream of Trail Creek Drive | None | +992
Lion Branch Tributary B | At the Lion Branch confluence | None | +962 | Unincorporated Areas of Douglas County.
| Approximately 250 feet upstream of Bottlebrush Drive | None | +987
Little Hurricane Creek | At the Hurricane Creek confluence | None | +866 | Unincorporated Areas of Douglas County.
| Approximately 450 feet upstream of Summer Hill Drive | None | +1066
Little Hurricane Creek Tributary A | At the Little Hurricane Creek confluence | None | +927 | Unincorporated Areas of Douglas County.
| Approximately 0.73 mile upstream of Gable Drive | None | +990
Margie Branch | At the Beaver Creek confluence | None | +942 | Unincorporated Areas of Douglas County.
| Approximately 0.45 mile upstream of the Margie Branch Tributary A confluence | None | +1074
Margie Branch Tributary A | At the Margie Branch confluence | None | +1028 | Unincorporated Areas of Douglas County.
| Approximately 1,800 feet upstream of the Margie Branch confluence | None | +1079
Mill Creek | At the Gothards Creek confluence | None | +931 | City of Douglasville, Unincorporated Areas of Douglas County.
| Approximately 200 feet upstream of Crystal Creek Place | None | +1091
Mill Creek Tributary 1 | At the Mill Creek confluence | None | +972 | City of Douglasville.
| Approximately 0.85 mile upstream of the Mill Creek confluence | None | +1061
Miller Creek | At the Beaver Creek confluence | None | +927 | Unincorporated Areas of Douglas County.
| Approximately 600 feet upstream of Miller Street | None | +969
Miller Creek Tributary A | At the Miller Creek confluence | None | +927 | Unincorporated Areas of Douglas County.
| Approximately 1,450 feet upstream of the Miller Creek confluence | None | +983
Palmer Branch | At the Sweetwater Creek confluence | +758 | +757 | City of Douglasville, Unincorporated Areas of Douglas County.
| Approximately 0.56 mile upstream of the Palmer Branch Tributary C confluence | None | +900
Palmer Branch Tributary A | At the Palmer Branch confluence | None | +789 | City of Douglasville.
| Approximately 0.55 mile upstream of the Palmer Branch confluence | None | +935
Palmer Branch Tributary B | At the Palmer Branch confluence | None | +807 | City of Douglasville.
| Approximately 0.53 mile upstream of the Palmer Branch confluence | None | +882
Palmer Branch Tributary C | At the Palmer Branch confluence | None | +855 | City of Douglasville, Unincorporated Areas of Douglas County.
| Approximately 1,850 feet upstream of Washington Drive | None | +1005
Park Creek | At the Sweetwater Creek confluence | +883 | +885 | Unincorporated Areas of Douglas County.
| Approximately 800 feet upstream of Sinyard Road | None | +968
Pine Creek | At the Sweetwater Creek confluence | +887 | +889 | Unincorporated Areas of Douglas County.
| At the Cobb County boundary | +888 | +890
Pinewood Branch | At the Park Creek confluence | +884 | +885 | Unincorporated Areas of Douglas County.
| Approximately 600 feet upstream of Paces Drive | None | +949
Pinewood Branch Tributary A | At the Pinewood Branch confluence | None | +900 | Unincorporated Areas of Douglas County.
| Approximately 1,100 feet upstream of Plantation Drive | None | +987
Shell Creek | At the Hurricane Creek confluence | None | +994 | Unincorporated Areas of Douglas County.
| Approximately 0.78 mile upstream of Shell Road | None | +1099
Shoals Branch | At the Sweetwater Creek confluence | +766 | +768 | City of Douglasville, Unincorporated Areas of Douglas County.
| Approximately 1.27 miles upstream of the Shoals Branch Tributary B confluence | None | +975
Shoals Branch Tributary A | At the Shoals Branch confluence | None | +827 | City of Douglasville, Unincorporated Areas of Douglas County.
| Approximately 0.44 mile upstream of the Shoals Branch confluence | None | +923
Shoals Branch Tributary B | At the Shoals Branch confluence | None | +842 | Unincorporated Areas of Douglas County.
| Approximately 1,100 feet upstream of the Shoals Branch confluence | None | +877
Spivey Branch | At the Hickory Creek confluence | None | +944 | Unincorporated Areas of Douglas County.
| Approximately 0.82 mile upstream of the Spivey Branch Tributary B confluence | None | +1086
Spivey Branch Tributary A | At the Spivey Branch confluence | None | +965 | Unincorporated Areas of Douglas County.
| Approximately 550 feet upstream of Ivy Brooke Drive | None | +1040
Spivey Branch Tributary B | At the Spivey Branch confluence | None | +978 | Unincorporated Areas of Douglas County.
| Approximately 0.38 mile upstream of the Spivey Branch confluence | None | +1007
Sweetwater Creek | Approximately 85 feet downstream of the Palmer Branch confluence | +758 | +757 | City of Austell, City of Douglasville, Unincorporated Areas of Douglas County.
| Approximately 450 feet upstream of the Cobb County boundary | +889 | +892
Sweetwater Creek Tributary A | Approximately 1,450 feet upstream of the Sweetwater Creek confluence | +757 | +758 | City of Douglasville.
| Approximately 1,000 feet upstream of Riverside Parkway | None | +799
Sweetwater Creek Tributary B | Approximately 1,400 feet upstream of the Sweetwater Creek confluence | None | +757 | City of Douglasville.
| Approximately 0.47 mile upstream of the Sweetwater Creek confluence | None | +788
Sweetwater Creek Tributary C | Approximately 1,800 feet upstream of the Sweetwater Creek confluence | +757 | +758 | City of Douglasville, Unincorporated Areas of Douglas County.
| Approximately 0.77 mile upstream of the Sweetwater Creek confluence | None | +797
Sweetwater Creek Tributary D | Approximately 0.48 mile upstream of the Sweetwater Creek confluence | +757 | +758 | City of Douglasville.
| Approximately 1.52 miles upstream of the Sweetwater Creek confluence | None | +856
Sweetwater Creek Tributary E | At the Sweetwater Creek confluence | +785 | +778 | Unincorporated Areas of Douglas County.
| Approximately 0.88 mile upstream of the Sweetwater Creek confluence | None | +900
Sweetwater Creek Tributary F | At the Sweetwater Creek confluence | +874 | +876 | City of Douglasville, Unincorporated Areas of Douglas County.
| Approximately 750 feet upstream of Factory Shoals Road | None | +964
Sweetwater Creek Tributary G | At the Sweetwater Creek confluence | +876 | +878 | City of Douglasville, Unincorporated Areas of Douglas County.
| Approximately 800 feet upstream of Trae Lane | None | +1002
Sweetwater Creek Tributary H | At the Sweetwater Creek confluence | +877 | +879 | City of Douglasville, Unincorporated Areas of Douglas County.
| At the Cobb County boundary | None | +911
Sweetwater Creek Tributary I | At the Sweetwater Creek confluence | +880 | +882 | Unincorporated Areas of Douglas County.
| Approximately 250 feet upstream of White Flag Trail | None | +918
Sweetwater Creek Tributary J | At the Sweetwater Creek confluence | +885 | +887 | City of Austell, Unincorporated Areas of Douglas County.
| Approximately 1,200 feet upstream of State Route 6 (Thornton Road) | None | +946
Sweetwater Creek Tributary K | At the Sweetwater Creek confluence | +885 | +887 | City of Austell, Unincorporated Areas of Douglas County.
| Approximately 0.51 mile upstream of U.S. Route 78 (Bankhead Highway) | None | +921
Sweetwater Creek Tributary L | At the Cobb County boundary | None | +906 | Unincorporated Areas of Douglas County.
| Approximately 1,250 feet upstream of Brownsville Road | None | +1057
Sweetwater Creek Tributary L.2 | At the Sweetwater Creek Tributary L confluence | None | +907 | Unincorporated Areas of Douglas County.
| Approximately 750 feet upstream of North Sweetwater Road | None | +966
Sweetwater Creek Tributary L.3 | At the Sweetwater Creek Tributary L confluence | None | +934 | Unincorporated Areas of Douglas County.
| Approximately 1,500 feet upstream of Union Grove Road | None | +990
Sweetwater Creek Tributary L.3.1 | At the Sweetwater Creek Tributary L.3 confluence | None | +955 | Unincorporated Areas of Douglas County.
| Approximately 1,600 feet upstream of the Sweetwater Creek Tributary L.3 confluence | None | +999
Tyree Branch | At the Hurricane Creek confluence | None | +1044 | Unincorporated Areas of Douglas County.
| Approximately 1.10 miles upstream of the Hurricane Creek confluence | None | +1171
Zion Branch | At the Hurricane Creek confluence | None | +736 | Unincorporated Areas of Douglas County.
| Approximately 0.53 mile upstream of State Route 5 | None | +988
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Austell
Maps are available for inspection at the City of Austell-Threadmill Complex, 5000 Austell-Powder Springs Road, Austell, GA 30106.
City of Douglasville
Maps are available for inspection at City Hall, 6695 Church Street, Douglasville, GA 30134.
Unincorporated Areas of Douglas County
Maps are available for inspection at the Douglas County Courthouse, 8700 Hospital Drive, Douglasville, GA 30134.
Forsyth County, Georgia, and Incorporated Areas
Baldridge Creek | At Pilgrim Mill Road | None | +1088 | Unincorporated Areas of Forsyth County.
| Approximately 0.75 mile upstream of U.S. Route 19 (State Route 400) | None | +1299
Bentley Creek | Approximately 1,460 feet upstream of the Big Creek confluence | +1024 | +1025 | Unincorporated Areas of Forsyth County.
| Approximately 1,800 feet upstream of Bentley Road | None | +1047
Big Creek | At the Fulton County boundary | +999 | +1000 | City of Cumming, Unincorporated Areas of Forsyth County.
| Approximately 1,490 feet upstream of Canton Road (State Route 20) | None | +1142
Camp Creek Tributary | At the Fulton County boundary | +1010 | +1012 | Unincorporated Areas of Forsyth County.
| Approximately 350 feet upstream of James Road | None | +1062
Chattahoochee River | At the Fulton County boundary | +908 | +904 | Unincorporated Areas of Forsyth County.
| At the Buford Dam | +921 | +920
Cheatam Creek | At the Big Creek confluence | +1027 | +1029 | Unincorporated Areas of Forsyth County.
| Approximately 1,250 feet upstream of Kelly Mill Road | None | +1056
Daves Creek | At the James Creek confluence | +948 | +946 | Unincorporated Areas of Forsyth County.
| Approximately 1,070 feet upstream of Northside Forsyth Drive | None | +1203
Dick Creek | At the Chattahoochee River confluence | +909 | +906 | Unincorporated Areas of Forsyth County.
| At Mathis Airport Parkway | +1048 | +1042
Haw Creek | At the Chattahoochee River confluence | +922 | +919 | Unincorporated Areas of Forsyth County.
| Approximately 400 feet upstream of Habersham Gate Drive | None | +1179
James Creek | At the Chattahoochee River confluence | +916 | +912 | Unincorporated Areas of Forsyth County.
| Approximately 700 feet upstream of Oak Industrial Lane | None | +1204
Johns Creek | At the upstream side of McGinnis Ferry Road | None | +1023 | Unincorporated Areas of Forsyth County.
| At the Fulton County boundary | None | +1041
Sawnee Creek | At the downstream side of the Sawnee Creek Tributary 2 confluence | None | +1085 | Unincorporated Areas of Forsyth County.
| Approximately 1,050 feet upstream of Jackson Court | None | +1261
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Cumming
Maps are available for inspection at City Hall, 100 Main Street, Cumming, GA 30040.
Unincorporated Areas of Forsyth County
Maps are available for inspection at the Forsyth County Administration Building, Department of Engineering, 110 East Main Street, Suite 120, Cumming, GA 30040.
Gwinnett County, Georgia, and Incorporated Areas
Brushy Creek | At the Chattahoochee River confluence | +906 | +904 | City of Suwanee, Unincorporated Areas of Gwinnett County.
| Approximately 100 feet upstream of Suwanee Dam Road | +1014 | +1010
Chattahoochee River | Approximately 800 feet upstream of Holcomb Bridge Road (at the Fulton County boundary) | +885 | +884 | City of Berkeley Lake, City of Duluth, City of Sugar Hill, City of Suwanee, Unincorporated Areas of Gwinnett County.
| Approximately 0.6 mile upstream of the Chattahoochee River (Bowmans East) divergence | +921 | +920
Chattahoochee River (Bowmans East) | At the Chattahoochee River confluence | None | +915 | City of Sugar Hill, Unincorporated Areas of Gwinnett County.
| Approximately 0.71 mile upstream of the Chattahoochee River confluence | None | +917
Duncan Creek | Approximately 1.14 miles downstream of Crimson King Drive | +816 | +817 | Town of Braselton, Unincorporated Areas of Gwinnett County.
| Approximately 0.43 mile upstream of East Rock Quarry Road | +1080 | +1082
Level Creek | At the Chattahoochee River confluence | +911 | +907 | City of Sugar Hill, City of Suwanee, Unincorporated Areas of Gwinnett County.
| Approximately 250 feet upstream of Peachtree Industrial Boulevard | +1048 | +1045
Level Creek Tributary No. 1 | At the Level Creek confluence | +955 | +951 | City of Suwanee, Unincorporated Areas of Gwinnett County.
| At the downstream side of Suwanee Dam Road | +1003 | +995
Level Creek Tributary No. 2 | At the upstream side of Whitehead Road | +975 | +976 | City of Sugar Hill, Unincorporated Areas of Gwinnett County.
| Approximately 160 feet upstream of Sugar Ridge Drive | +1022 | +1021
Little Mulberry River | Approximately 0.47 mile downstream of Mount Moriah Road | +837 | +836 | Unincorporated Areas of Gwinnett County.
| Approximately 550 feet upstream of Millwater Crossing | +988 | +995
Little Mulberry River Tributary A | At the Little Mulberry River confluence | +844 | +846 | Unincorporated Areas of Gwinnett County.
| Approximately 175 feet upstream of Mineral Springs Road | +987 | +986
Little Mulberry River Tributary B | At the Little Mulberry River confluence | +847 | +849 | Unincorporated Areas of Gwinnett County.
| Approximately 125 feet upstream of Hog Mountain Road | +931 | +929
Little Mulberry River Tributary C | At the Little Mulberry River confluence | +857 | +858 | Unincorporated Areas of Gwinnett County.
| Approximately 125 feet upstream of the private driveway | +885 | +889
Little Mulberry River Tributary D | At the upstream side of Hog Mountain Road | +898 | +896 | Unincorporated Areas of Gwinnett County.
| Approximately 270 feet upstream of Hog Mountain Road | +898 | +896
Little Mulberry River Tributary E | Approximately 100 feet upstream of Hog Mountain Road | +907 | +908 | Unincorporated Areas of Gwinnett County.
| Approximately 100 feet downstream of Patrick Road | +907 | +908
Mill Creek (Stream 6) | Approximately 950 feet upstream of the Mill Creek Tributary (Stream 6.1) confluence | +895 | +896 | City of Berkeley Lake, Unincorporated Areas of Gwinnett County.
| At the upstream side of Bush Road | None | +926
Mill Creek Tributary (Stream 6.1) | At the Mill Creek (Stream 6) confluence | +898 | +895 | City of Berkeley Lake, Unincorporated Areas of Gwinnett County.
| Approximately 270 feet upstream of Bayway Circle | +975 | +976
Mitchell Creek | Approximately 1.34 miles downstream of Thompson Mill Road | +1014 | +1015 | Unincorporated Areas of Gwinnett County.
| Approximately 850 feet upstream of South Puckett Lane | +1131 | +1136
Richland Creek | At the Chattahoochee River confluence | +917 | +914 | City of Buford, City of Sugar Hill, Unincorporated Areas of Gwinnett County.
| Approximately 80 feet upstream of Cole Road Northeast | +1095 | +1096
Richland Creek Tributary No. 1 | At the Richland Creek confluence | +952 | +951 | City of Sugar Hill, Unincorporated Areas of Gwinnett County.
| Approximately 100 feet upstream of Stewart Road Northeast | None | +1010
Richland Creek Tributary No. 2 | At the Richland Creek confluence | +1008 | +1010 | City of Buford, Unincorporated Areas of Gwinnett County.
| Approximately 450 feet upstream of Pine Hollow Way | None | +1055
Rock Creek | Approximately 950 feet downstream of Bailey Road | +960 | +961 | Unincorporated Areas of Gwinnett County.
| Approximately 1.68 miles upstream of Bailey Road | +1000 | +999
Rogers Creek | Approximately 1,160 feet upstream of the Chattahoochee River confluence | +900 | +899 | City of Duluth, Unincorporated Areas of Gwinnett County.
| Approximately 0.83 mile upstream of Bridlewood Drive | +1035 | +1039
Sherwood Creek | Approximately 0.66 mile downstream of Old Thompson Mill Road | +921 | +922 | Unincorporated Areas of Gwinnett County.
| Approximately 1,950 feet upstream of Rock Quarry Road | +963 | +964
Stream 1 | At the Chattahoochee River confluence | +886 | +887 | Unincorporated Areas of Gwinnett County.
| Approximately 450 feet upstream of Allenhurst Drive | +931 | +932
Stream 10 | At the Chattahoochee River confluence | +903 | +902 | City of Duluth, Unincorporated Areas of Gwinnett County.
| Approximately 0.47 mile upstream of Buford Highway | +1025 | +1031
Stream 2 | At the Chattahoochee River confluence | +887 | +888 | Unincorporated Areas of Gwinnett County.
| Approximately 1,650 feet upstream of the pedestrian bridge | +949 | +947
Stream 3 | At the Chattahoochee River confluence | +889 | +890 | Unincorporated Areas of Gwinnett County.
| Approximately 0.55 mile upstream of Edgerton Drive | +942 | +948
Stream 4 | Approximately 950 feet upstream of the Chattahoochee River confluence | +892 | +891 | Unincorporated Areas of Gwinnett County.
| Approximately 100 feet upstream of the Detention Pond | +957 | +950
Stream 5 | Approximately 1,150 feet upstream of the Chattahoochee River confluence | +894 | +895 | Unincorporated Areas of Gwinnett County.
| Approximately 275 feet upstream of Bush Road | +918 | +920
Stream 8 | At the Chattahoochee River confluence | +897 | +898 | City of Duluth.
| At the upstream side of Howell Springs Drive | +970 | +972
Suwanee Creek | At the Chattahoochee River confluence | +905 | +903 | Unincorporated Areas of Gwinnett County.
| Approximately 0.91 mile upstream of the Chattahoochee River confluence | +910 | +909
Swilling Creek | At the Chattahoochee River confluence | +896 | +897 | City of Duluth.
| Approximately 1,680 feet upstream of Tree Summit Parkway | +975 | +977
Swilling Creek Tributary | At the Swilling Creek confluence | +924 | +928 | City of Duluth.
| Approximately 100 feet downstream of Whippoorwill Drive | +968 | +966
Wheeler Creek | Approximately 1.2 miles downstream of Wheeler Road | +837 | +838 | Unincorporated Areas of Gwinnett County.
| Approximately 435 feet upstream of Flowery Branch Road | +930 | +931
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Berkeley Lake
Maps are available for inspection at City Hall, 4040 Berkeley Lake Road, Berkeley Lake, GA 30096.
City of Buford
Maps are available for inspection at City Hall, 95 Scott Street, Buford, GA 30518.
City of Duluth
Maps are available for inspection at the Department of Planning and Development, 3578 West Lawrenceville Street, Duluth, GA 30096.
City of Sugar Hill
Maps are available for inspection at City Hall, Planning and Zoning Department, 4988 West Broad Street, Sugar Hill, GA 30518.
City of Suwanee
Maps are available for inspection at the Crossroads Center, 323 Buford Highway, Suwanee, GA 30024.
Town of Braselton
Maps are available for inspection at the Town Hall, 4982 State Route 53, Braselton, GA 30517.
Unincorporated Areas of Gwinnett County
Maps are available for inspection at the Gwinnett County Office, 75 Langley Drive, Lawrenceville, GA 30045.
Caddo Parish, Louisiana, and Incorporated Areas
Backwater effects from 81st Street Drainage Ditch | At the intersection of Linwood Avenue and West 67th Street | None | +203 | City of Shreveport.
| Approximately 130 feet east of the intersection of Wallace Avenue and West 67th Street | None | +203
Backwater effects from Airport Ditch | Approximately 40 feet north of the intersection of Valley View Drive and Trammel Drive | None | +185 | City of Shreveport.
| Approximately 820 feet north of the intersection of Valley View Drive and Trammel Drive | None | +185
Backwater effects from Airport Ditch | Approximately 240 feet southeast of the intersection of Dollarway Drive and Amie Street | None | +192 | City of Shreveport.
| At the intersection of Dollarway Drive and Jewella Avenue | None | +192
Backwater effects from Airport Ditch | Approximately 425 feet southeast of the intersection of Dollarway Drive and Karen Street | None | +192 | City of Shreveport.
| Approximately 160 feet east of the intersection of Dollarway Drive and Karen Street | None | +192
Backwater effects from Airport Ditch | Approximately 750 feet south of the intersection of West 70th Street and the railroad | None | +198 | City of Shreveport.
| Approximately 170 feet south of the intersection of West 70th Street and the railroad | None | +198
Backwater effects from Airport Ditch | Approximately 500 feet southeast of the intersection of Kennedy Drive and West 70th Street | None | +204 | City of Shreveport.
| Approximately 130 feet southwest of the intersection of West 70th Street and the railroad | None | +204
Backwater effects from Airport Ditch | Approximately 290 feet northwest of the intersection of Kennedy Drive and West 70th Street | None | +206 | City of Shreveport.
| Approximately 1,050 feet northwest of the intersection of Kennedy Drive and West 70th Street | None | +206
Backwater effects from Audrey Lane Lateral | Approximately 330 feet north of the intersection of Audrey Lane and Willis Street | None | +187 | City of Shreveport.
| Approximately 710 feet northeast of the intersection of Hazel Street and Willis Street | None | +187
Backwater effects from Bayou Pierre | Approximately 114 feet south of the intersection of Huron Street and Gilbert Drive | None | +166 | City of Shreveport.
| Approximately 543 feet southwest of the intersection of Huron Street and Gilbert Drive | None | +166
Backwater effects from Boggy Bayou | Approximately 770 feet southwest of the intersection of Harper Road and Colquitt Road | None | +172 | Unincorporated Areas of Caddo Parish.
| Approximately 1,240 feet west of the intersection of Harper Road and Colquitt Road | None | +172
Backwater effects from Brush Bayou | Approximately 1,520 feet northwest of the intersection of Linwood Avenue and Bert Kouns Industrial Loop | None | +170 | City of Shreveport.
| Approximately 1,700 feet southwest of the intersection of Linwood Avenue and Kennie Road | None | +170
Backwater effects from Brush Bayou | Approximately 660 feet southwest of the intersection of Wilshire Drive and Pine Tree Drive | None | +184 | City of Shreveport.
| Approximately 650 feet northeast of the intersection of Trammel Drive and Valley View Drive | None | +184
Backwater effects from Cargill Lateral | Approximately 50 feet west of the intersection of Chateau Drive and Legion Circle | None | +196 | City of Shreveport.
| Approximately 420 feet southwest of the intersection of Chateau Drive and Classic Circle | None | +196
Backwater effects from Choctaw Bayou | Approximately 0.65 mile west of the intersection of Tolmak Road and Industry Road | None | +180 | Unincorporated Areas of Caddo Parish.
| Approximately 0.59 mile northwest of the intersection of Tolmak Road and Industry Road | None | +180
Backwater effects from Cross Bayou Tributary 3 | Approximately 0.39 mile northeast of the intersection of Greenwood Heights Street and U.S. Route 80 | None | +231 | Town of Greenwood.
| Approximately 0.48 mile northeast of the intersection of Greenwood Heights Street and U.S. Route 80 | None | +231
Backwater effects from Industrial Park Lateral | Approximately 530 feet southwest of the intersection of Sandalwood Drive and Green Forest Road | None | +176 | City of Shreveport.
| Approximately 530 feet west of the intersection of Sandalwood Drive and Green Forest Road | None | +176
Backwater effects from Industrial Park Lateral | Approximately 570 feet southeast of the intersection of Castlebrook Circle and Castlebrook Drive | None | +178 | City of Shreveport.
| Approximately 740 feet northwest of the intersection of Castlebrook Circle and Castlebrook Drive | None | +178
Backwater effects from Industrial Park Lateral | Approximately 110 feet southwest of the intersection of Lytham Drive and Tyne Drive | None | +179 | City of Shreveport.
| Approximately 250 feet southeast of the intersection of Newcastle Boulevard and Lytham Drive | None | +179
Backwater effects from Industrial Park Lateral | Approximately 1,400 feet southeast of the intersection of Pines Road and Bert Kouns Industrial Loop | None | +185 | Unincorporated Areas of Caddo Parish.
| Approximately 800 feet southwest of the intersection of Pines Road and Bert Kouns Industrial Loop | None | +185
Backwater effects from Lincoln Memorial Lateral | Approximately 1,190 feet northwest of the intersection of McGoldrick Drive and Bert Kouns Industrial Loop | None | +203 | City of Shreveport.
| Approximately 0.63 mile northwest of the intersection of McGoldrick Drive and Bert Kouns Industrial Loop | None | +203
Backwater effects from Lincoln Memorial Lateral | Approximately 1,300 feet west of the intersection of Buncombe Road and the railroad | None | +209 | City of Shreveport, Unincorporated Areas of Caddo Parish.
| Approximately 1,570 feet northwest of the intersection of Buncombe Road and the railroad | None | +209
Backwater effects from McCain Creek | Approximately 1,600 feet southeast of the intersection of North Forty Drive and North Market Street | None | +190 | Unincorporated Areas of Caddo Parish.
| Approximately 270 feet southwest of the intersection of Eakin Road and Old Mooringsport Road | None | +190
Backwater effects from McCain Creek | Approximately 1,600 feet southeast of the intersection of North Market Street and State Route 538 (Old Mooringsport Road) | None | +192 | Unincorporated Areas of Caddo Parish.
| Approximately 1,020 feet southeast of the intersection of North Market Street and State Route 538 (Old Mooringsport Road) | None | +192
Backwater effects from McCain Creek | Approximately 450 feet east of the intersection of Alaska Lane and Canada Court | None | +195 | Unincorporated Areas of Caddo Parish.
| Approximately 190 feet east of the intersection of Alaska Lane and Vancouver Drive | None | +195
Backwater effects from McCain Creek | Approximately 1,630 feet southwest of Roy Road | None | +202 | Unincorporated Areas of Caddo Parish.
| Approximately 0.56 mile southwest of Roy Road | None | +202
Backwater effects from McCain Creek | Approximately 1.1 miles southeast of the intersection of Luke Lane and Tom Ridge Road | None | +211 | Unincorporated Areas of Caddo Parish.
| Approximately 0.79 mile northeast of the intersection of Luke Lane and Tom Ridge Road | None | +211
Backwater effects from Red River | Approximately 650 feet southeast of the intersection of South Pointe Parkway and Dee Street | None | +163 | City of Shreveport.
| Approximately 1,050 feet northeast of the intersection of South Pointe Parkway and Dee Street | None | +163
Backwater effects from Shirley Francis Lateral | Approximately 440 feet southwest of the Industrial Park Lateral confluence | None | +206 | City of Shreveport.
| Approximately 870 feet southwest of the Industrial Park Lateral confluence | None | +206
Backwater effects from South Broadmoor Lateral | Approximately 100 feet south of the intersection of Martha Ann Drive and Pugh Avenue | None | +159 | City of Shreveport.
| Approximately 50 feet south of the intersection of Schaub Drive and Pugh Avenue | None | +159
Backwater effects from South Broadmoor Lateral | Approximately 239 feet east of the intersection of Jackson Square Place and Fountainbleau Drive | None | +159 | City of Shreveport.
| Approximately 786 feet east of the intersection of Jackson Square Place and Fountainbleau Drive | None | +159
Brookwood Ditch | At the downstream side of the railroad | +189 | +188 | City of Shreveport.
| Approximately 100 feet downstream of Hawthorne Drive | +191 | +190
Caddo Lake | Approximately 0.57 mile northwest of the intersection of Caddo Lake Road and Haphazard Road | None | +181 | Unincorporated Areas of Caddo Parish
Cargill Lateral | Approximately 250 feet downstream of Valley View Drive | +195 | +196 | City of Shreveport.
| Approximately 50 feet upstream of the railroad | +203 | +207
Cross Bayou Lateral | At the downstream side of Weinstock Street | +192 | +194 | City of Shreveport.
| Approximately 80 feet upstream of Weinstock Street | +194 | +196
Cross Lake | Approximately 1,200 feet southeast of the intersection of North Lakeshore Drive and Lakeview Road | None | +177 | Unincorporated Areas of Caddo Parish.
Ponding area (flooding effects from Cross Bayou) | Entire ponding area approximately 730 feet west of the intersection of Shreveport Blanchard Highway and North Hearne Avenue | None | +166 | City of Shreveport.
Ponding area (flooding effects from Cross Bayou) | Entire ponding area approximately 1,030 feet northwest of the intersection of Shreveport Blanchard Highway and North Hearne Avenue | None | +166 | City of Shreveport.
Ponding area (flooding effects from Gilmer Bayou) | Entire ponding area approximately 1,760 feet north of the intersection of Grantham Street and Chambers Street | None | +195 | City of Shreveport.
Ponding area (flooding effects from Hollywood Ditch) | Entire ponding area approximately 600 feet southeast of the intersection of Evers Drive and Broadway Avenue | None | +205 | City of Shreveport.
Ponding area (flooding effects from Red River) | Entire ponding area approximately 510 feet east of the intersection of East Kings Highway and Captain H. M. Shreve Boulevard | None | +161 | City of Shreveport.
Ponding area (flooding effects from Red River) | Entire ponding area approximately 555 feet north of the intersection of East Kings Highway and Captain H. M. Shreve Boulevard | None | +161 | City of Shreveport.
Ponding area (flooding effects from Red River) | Entire ponding area approximately 1,500 feet southeast of the intersection of I-20 and Spring Street | None | +165 | City of Shreveport.
Ponding area (flooding effects from Red River) | Entire ponding area approximately 900 feet southeast of the intersection of Monty Avenue and Taft Street | None | +166 | City of Shreveport.
Ponding area (flooding effects from Wallace Lake) | Entire ponding area approximately 0.49 mile south of the intersection of Ellerbe Road and Robson Road | None | +160 | Unincorporated Areas of Caddo Parish.
Shallow flooding | Approximately 165 feet south of the intersection of Chelsea Drive and Grover Place | None | +162 | City of Shreveport.
| Approximately 145 feet south of the intersection of Sand Beach Boulevard and Grover Place | None | +162
Shallow flooding | Approximately 195 feet east of the intersection of Roma Drive and Sand Beach Boulevard | None | +162 | City of Shreveport.
| Approximately 705 feet east of the intersection of Roma Drive and Sand Beach Boulevard | None | +162
Shallow flooding | Approximately 490 feet southeast of the intersection of Orchid Street and Pennsylvania Avenue | None | +162 | City of Shreveport.
Shallow flooding | Approximately 350 feet southeast of the intersection of Tibbs Avenue and Pennsylvania Avenue | None | +162 | City of Shreveport.
Shallow flooding | An area bounded by Bruce Avenue to the north, Anniston Avenue to the east, Norwood Street to the south, and Roma Drive to the west | None | +162 | City of Shreveport.
Shallow flooding | An area bounded by Leo Avenue to the north, Steere Drive to the east, Carrollton Avenue to the south, and Akard Avenue to the west | None | +162 | City of Shreveport.
Shallow flooding | Approximately 110 feet east of the intersection of Youree Drive and Preston Avenue | None | +162 | City of Shreveport.
| Approximately 620 feet northeast of the intersection of Youree Drive and Preston Avenue | None | +162
Shallow flooding | Approximately 360 feet east of the intersection of Akard Avenue and Ockley Drive | None | +162 | City of Shreveport.
| Approximately 1,220 feet east of the intersection of Akard Avenue and Ockley Drive | None | +162
Shallow flooding | An area bounded by Carrollton Avenue to the north, Steere Drive to the east, Pennsylvania Avenue to the south, and Akard Avenue to the west | None | +162 | City of Shreveport.
Shallow flooding | Approximately 440 feet north of the intersection of Kathy Lane and Kathy Circle | None | +162 | City of Shreveport.
Shallow flooding | Approximately 340 feet southwest of the intersection of Ockley Drive and Akard Avenue | None | +162 | City of Shreveport.
Shallow flooding | From approximately 90 feet northwest of the railroad to approximately 250 feet southeast of the intersection of Hawthorne Drive and Torento Lane | #1 | +189 | City of Shreveport.
Shallow flooding | An area bounded by East 68th Street to the north, Line Avenue to the east, East 74th Street to the south, and Southern Avenue to the west | None | +208 | City of Shreveport.
Unnamed flooding source (flooding effects from Bayou Pierre) | Approximately 0.61 mile north of the intersection of Explorer Road and Robson Road | None | +153 | Unincorporated Areas of Caddo Parish.
| Approximately 0.80 mile northwest of the intersection of Jeter Road and Robson Road | None | +153
Unnamed flooding source (flooding effects from Bayou Pierre) | Approximately 0.39 mile southeast of the intersection of Rose Ridge Circle and Leonard Road | None | +153 | Unincorporated Areas of Caddo Parish.
| Approximately 0.81 mile southeast of the intersection of Westchester Circle and Nottingham Drive | None | +153
Unnamed flooding source (flooding effects from Bayou Pierre) | Approximately 0.76 mile north of the intersection of Explorer Road and Robson Road | None | +153 | Unincorporated Areas of Caddo Parish.
| Approximately 1.20 miles northeast of the intersection of Bent Tree Drive and Ellerbe Road | None | +153
Unnamed flooding source (flooding effects from Bayou Pierre) | Approximately 1,690 feet northwest of the intersection of Red Haw Lane and Leonard Road | None | +154 | Unincorporated Areas of Caddo Parish.
| Approximately 0.46 mile northeast of the intersection of Ellerbe Road and Bob White Lane | None | +155
Unnamed flooding source (flooding effects from Red River) | Approximately 295 feet southwest of the intersection of North Common Street and Airport Drive | None | +167 | City of Shreveport.
| Approximately 730 feet northeast of the intersection of Ute Terrace and Grimmett Drive | None | +171
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Shreveport
Maps are available for inspection at the Office of the City Engineer, 505 Travis Street, Suite 300, Shreveport, LA 71101.
Town of Greenwood
Maps are available for inspection at City Hall, 9381 Greenwood Road, Greenwood, LA 71033.
Unincorporated Areas of Caddo Parish
Maps are available for inspection at the Caddo Parish Department of Public Works, 505 Travis Street, Suite 820, Shreveport, LA 71101.
Mower County, Minnesota, and Incorporated Areas
Cedar River | Approximately 1.21 miles upstream of 29th Avenue Southwest (County Highway 28) | +1188 | +1190 | City of Austin.
| At the downstream side of I and M Rail Link | +1204 | +1205
Dobbins Creek/North Branch Dobbins Creek | Approximately 0.76 mile upstream of 21st Street Northeast | +1206 | +1205 | Unincorporated Areas of Mower County.
| Approximately 0.86 mile upstream of 21st Street Northeast | +1206 | +1205
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Austin
Maps are available for inspection at City Hall, 500 4th Avenue Northeast, Austin, MN 55912.
Unincorporated Areas of Mower County
Maps are available for inspection at the Mower County Government Center, 201 1st Street Northeast, Austin, MN 55912.
Lake County, Montana, and Incorporated Areas
Dayton Creek | Approximately 1,100 feet downstream of U.S. Route 93 | None | +2897 | Unincorporated Areas of Lake County.
| Approximately 1,930 feet upstream of Big Meadows Road | None | +3196
Johnson Creek | At the upstream side of Private Drive | None | +3078 | Unincorporated Areas of Lake County.
| Approximately 1.25 miles upstream of Private Drive | None | +4010
Johnson Creek Overflow (Kelley Drive) | Approximately 840 feet downstream of Sunburst Drive | None | +3082 | Unincorporated Areas of Lake County.
| Approximately 1,880 feet upstream of Sunburst Drive | None | +3116
Lower Mission Creek | At the Post Creek confluence | None | +2658 | Unincorporated Areas of Lake County.
| Approximately 1.67 miles upstream of Old Freight Road | None | +2815
Post Creek | Approximately 1.87 miles downstream of Old Freight Road | None | +2658 | Unincorporated Areas of Lake County.
| Approximately 670 feet upstream of Fish Hatchery Road | None | +2735
Swan Lake | Entire shoreline | None | +3078 | Unincorporated Areas of Lake County.
Upper Mission Creek | Approximately 90 feet upstream of U.S. Route 20 | None | +2883 | Town of St. Ignatius, Unincorporated Areas of Lake County.
| Approximately 0.74 mile upstream of Foothills Road | None | +3311
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Town of St. Ignatius
Maps are available for inspection at 12 1st Avenue, St. Ignatius, MT 59865.
Unincorporated Areas of Lake County
Maps are available for inspection at 106 4th Avenue East, Polson, MT 59860.
Cleveland County, Oklahoma, and Incorporated Areas
Dave Blue Creek | At the downstream side of North Main Street | +1117 | +1118 | City of Noble, City of Norman.
| Approximately 0.4 mile upstream of Post Oak Road | None | +1177
Little River | Approximately 600 feet downstream of 12th Avenue Northeast | None | +1097 | City of Moore, City of Norman.
| Approximately 1.0 mile downstream of Southwest 34th Street | None | +1159
Stream E (backwater effects from Little River) | At the Little River confluence | None | +1159 | City of Moore, City of Norman.
| Approximately 1,480 feet upstream of the Little River confluence | None | +1159
Stream E | Approximately 0.42 mile downstream of Southwest 19th Street | None | +1191 | City of Moore.
| Approximately 60 feet downstream of Southwest 4th Street | None | +1226
Tributary 1 to Unnamed Tributary to Cow Creek Tributary 2 North Branch (backwater effects from Unnamed Tributary to Cow Creek Tributary 2 North Branch) | At the Unnamed Tributary to Cow Creek Tributary 2 North Branch confluence Approximately 660 feet upstream of the Unnamed Tributary to Cow Creek Tributary 2 North Branch confluence | None None | +1236 +1236 | City of Oklahoma City.
Tributary 3 of Canadian River Tributary 1 | Approximately 800 feet downstream of Southwest 119th Street | +1197 | +1198 | City of Oklahoma City.
| Approximately 250 feet downstream of Southwest 106th Street | None | +1239
Tributary A to Tributary 3 of Canadian River Tributary 1 (backwater effects from Tributary 3 of Canadian River Tributary 1) | At the Tributary 3 of Canadian River Tributary 1 confluence | None | +1233 | City of Oklahoma City.
| Approximately 1,080 feet upstream of the Tributary 3 of Canadian River Tributary 1 confluence | None | +1233
Tributary B to Tributary 3 of Canadian River Tributary 1 (backwater effects from Tributary 3 of Canadian River Tributary 1) | At the Tributary 3 of Canadian River Tributary 1 confluence | None | +1211 | City of Oklahoma City.
| Approximately 1,100 feet upstream of the Tributary 3 of Canadian River Tributary 1 confluence | None | +1211
Unnamed Tributary to Cow Creek Tributary 2 North Branch | Approximately 240 feet upstream of the Cow Creek Tributary 2 North Branch confluence | None | +1224 | City of Oklahoma City.
| Approximately 0.8 mile upstream of the Cow Creek Tributary 2 North Branch confluence | None | +1240
Unnamed Tributary to Little River | At the Little River confluence | None | +1150 | City of Moore, City of Norman.
| Approximately 300 feet upstream of Southwest 34th Street | None | +1185
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Moore
Maps are available for inspection at City Hall, 301 North Broadway, Moore, OK 73160.
City of Noble
Maps are available for inspection at City Hall, 304 South Main Street, Noble, OK 73068.
City of Norman
Maps are available for inspection at City Hall, 201 West Gray Street, Building A, Norman, OK 73069.
City of Oklahoma City
Maps are available for inspection at City Hall, 420 West Main Street, Suite 100, Oklahoma City, OK 73102.
Sullivan County, Pennsylvania (All Jurisdictions)
Big Run | At the Muncy Creek confluence | +968 | +965 | Township of Davidson.
| Approximately 1,660 feet upstream of Fairman Road | None | +1153
Little Loyalsock Creek | Approximately 1,150 feet downstream of the Marsh Run confluence | None | +1432 | Borough of Dushore.
| Approximately 540 feet upstream of Main Street | None | +1458
Loyalsock Creek | Approximately 2.6 miles downstream of the Ogdonia Creek confluence | +789 | +780 | Borough of Forksville, Township of Hillsgrove.
| At the Little Loyalsock Creek confluence | None | +1004
Muncy Creek | At the Muncy Creek Tributary 1 confluence | +787 | +783 | Township of Davidson, Township of Shrewsbury.
| Approximately 0.76 mile upstream of Pecks Road | +991 | +988
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Dushore
Maps are available for inspection at the Municipal Building, 216 Julia Street, Dushore, PA 18614.
Borough of Forksville
Maps are available for inspection at the Sullivan County Planning and Community Development, 245 Muncy Street, Suite 110, Laporte, PA 18626.
Township of Davidson
Maps are available for inspection at the Davidson Township Municipal Building, 20 Michelle Road, Muncy Valley, PA 17758.
Township of Hillsgrove
Maps are available for inspection at the Sullivan County Planning and Community Development, 245 Muncy Street, Suite 110, Laporte, PA 18626.
Township of Shrewsbury
Maps are available for inspection at the at Shrewsbury Township Municipal Building, 1793 Edkin Hill Road, Muncy Valley, PA 17758.
Yakima County, Washington, and Incorporated Areas
Ahtanum Creek | Approximately 0.33 mile downstream of Burlington Northern Railroad | +952 | +951 | City of Union Gap, Unincorporated Areas of Yakima County.
| At the South Fork Ahtanum Creek confluence | +2060 | +2059
Ahtanum Creek Bypass | Approximately 0.53 mile southwest of the intersection of Meadowbrook Road and South 90th Avenue | +1298 | +1299 | Unincorporated Areas of Yakima County.
| Approximately 0.74 mile upstream of South American Fruit Road | +1480 | +1479
Ahtanum Creek Left Overbank Bypass | At the Ahtanum Creek confluence | None | +1259 | Unincorporated Areas of Yakima County.
| Approximately 0.47 mile southwest of the intersection of Meadowbrook Road and South 90th Avenue | None | +1296
Bachelor Creek | Approximately 0.61 mile downstream of South 5th Avenue | +997 | +999 | City of Union Gap, City of Yakima, Unincorporated Areas of Yakima County.
| Approximately 0.43 mile upstream of Unnamed Road | +1744 | +1746
Bachelor Creek Right Overbank Bypass | Approximately 0.50 mile downstream of South Stanton Lane | None | +1365 | Unincorporated Areas of Yakima County.
| Approximately 1,510 feet upstream of South Stanton Road | None | +1406
Bachelor Creek-Emma Lane Overflow | Approximately 0.43 mile downstream of South 34th Avenue | None | +1076 | Unincorporated Areas of Yakima County.
| Approximately 661 feet upstream of South 37th Avenue | None | +1104
Bachelor Creek-Hatton Creek Overflow | Approximately 0.48 mile downstream of Lynch Lane | None | +1588 | Unincorporated Areas of Yakima County.
| Approximately 1,478 feet upstream of Lynch Lane | None | +1639
Emma Lane Overflow | Approximately 0.62 mile downstream of South 14th Avenue | None | +1012 | City of Union Gap, City of Yakima, Unincorporated Areas of Yakima County.
| Approximately 175 feet upstream of Emma Lane | None | +1116
Hatton Creek | Approximately 411 feet downstream of South 62nd Avenue | +1176 | +1177 | Unincorporated Areas of Yakima County.
| Approximately 1.06 miles upstream of Lynch Lane | +1676 | +1677
Hatton Creek Meadowbrook Road Overflow | Approximately 1,294 feet downstream of Southcreek Drive | None | +1206 | Unincorporated Areas of Yakima County.
| Approximately 1,347 feet upstream of South Wiley Road | None | +1350
Hatton Creek Right Overbank Bypass | Approximately 431 feet downstream of Rutherford Road | None | +1517 | Unincorporated Areas of Yakima County.
| Approximately 0.44 mile upstream of Rutherford Road | None | +1548
North Fork Ahtanum Creek | Approximately 0.71 mile downstream of South Fork Ahtanum Creek | +2065 | +2063 | Unincorporated Areas of Yakima County.
| Approximately 0.51 mile upstream of North Fork Ahtanum Road | None | +3062
North Fork Ahtanum Creek Irrigation Diversion | Approximately 0.39 mile northwest of the intersection of South Fork Ahtanum Road and Ahtanum Road | None | +2161 | Unincorporated Areas of Yakima County.
| Approximately 0.55 mile northeast of the intersection of Aspen Springs Lane and Dusty Lane | None | +2201
North Fork Ahtanum Creek Left Bank Overflow | Approximately 627 feet downstream of Unnamed Road | None | +2121 | Unincorporated Areas of Yakima County.
| Approximately 350 feet upstream of North Fork Ahtanum Road | None | +2251
South Fork Ahtanum Creek | At the Ahtanum Creek confluence | None | +2059 | Unincorporated Areas of Yakima County.
| Approximately 0.90 mile downstream of Unnamed Road | None | +2552
Spring Creek | Approximately 0.58 mile downstream of Yakima Air Terminal | +1043 | +1042 | City of Yakima.
| Approximately 0.71 mile upstream of Yakima Air Terminal | +1082 | +1081
Spring Creek Tributary 1 | Approximately 843 feet downstream of South 36th Avenue | +1082 | +1081 | City of Yakima, Unincorporated Areas of Yakima County.
| Approximately 749 feet upstream of South Stanton Road | +1430 | +1432
Spring Creek Tributary 1 Right Overbank Bypass | Approximately 940 feet downstream of South 90th Avenue | None | +1256 | Unincorporated Areas of Yakima County.
| Approximately 1,505 feet upstream of South 90th Avenue | None | +1275
Spring Creek Tributary 1-Tributary 2 Overflow Split 1 | At the downstream side of South 64th Avenue | None | +1173 | City of Yakima, Unincorporated Areas of Yakima County.
| Approximately 213 feet upstream of Occidental Road | None | +1178
Spring Creek Tributary 1-Tributary 2 Overflow Split 2 | Approximately 1,186 feet downstream of South 40th Avenue | None | +1090 | City of Yakima, Unincorporated Areas of Yakima County.
| Approximately 0.39 mile upstream of Walla Walla Street | None | +1158
Spring Creek Tributary 1b | Approximately 1.34 miles downstream of South 62nd Avenue | None | +1112 | Unincorporated Areas of Yakima County.
| Approximately 0.38 mile upstream of South 90th Avenue | None | +1284
Spring Creek Tributary 1b Overflow to Spring Creek Tributary 1 | Approximately 0.60 mile downstream of South 74th Avenue | None | +1185 | Unincorporated Areas of Yakima County.
| Approximately 1,544 feet upstream of South 74th Avenue | None | +1221
Spring Creek Tributary 2 | Approximately 947 feet downstream of Springcreek Road | +1082 | +1081 | City of Yakima.
| Approximately 0.40 mile upstream of West Washington Avenue | None | +1132
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Union Gap
Maps are available for inspection at City Hall, 102 West Ahtanum Road, Union Gap, WA 98903.
City of Yakima
Maps are available for inspection at City Hall, 129 North 2nd Street, Yakima, WA 98901.
Unincorporated Areas of Yakima County
Maps are available for inspection at the Yakima County Courthouse, 128 North 2nd Street, Yakima, WA 98901.

(Catalog of Federal Domestic Assistance No. 97.022, “Flood Insurance.”)

Dated: November 22, 2011.
Sandra K. Knight,
Deputy Associate Administrator for Mitigation, Department of Homeland Security, Federal Emergency Management Agency.

[FR Doc. 2011-30710 Filed 11-28-11; 8:45 am]

BILLING CODE 9110-12-P